DEPARTMENT OF COMMERCE

National Oceanic and Atmospheric Administration

RIN 0648-XC555

Fisheries of the South Atlantic; Southeast Data, Assessment, and Review (SEDAR); Public Meetings

AGENCY: National Marine Fisheries Service (NMFS), National Oceanic and Atmospheric Administration (NOAA), Commerce.

ACTION: Notice of SEDAR 32 pre-assessment and Assessment Workshop webinars for South Atlantic blueline tilefish and gray triggerfish.

SUMMARY: The SEDAR 32 assessments of the South Atlantic stocks of blueline tilefish and gray triggerfish will consist of a series of workshops and webinars: a Data Workshop; a series of Assessment webinars; and a Review Workshop. See SUPPLEMENTARY INFORMATION.

DATES: A SEDAR 32 pre-assessment webinar will be held on Wednesday, April 17, 2013 from 9 a.m. until 1 p.m. Additional Assessment Workshop webinars will be held from 1 p.m. until 5 p.m. on the following dates: May 8, 2013; May 23, 2013 (optional); June 5, 2013; June 19, 2013 (optional); June 26, 2013; July 10, 2013; and July 24, 2013 (optional). Optional webinar dates will be used as required by the Assessment Panel during the assessment process.

ADDRESSES: Meeting address: The meeting will be held via webinar. The webinar is open to members of the public. Those interested in participating should contact Julia Byrd at SEDAR (see FOR FURTHER INFORMATION CONTACT) to request an invitation providing webinar access information. Please request webinar invitations at least 24 hours in advance of each webinar.

SEDAR address: 4055 Faber Place Drive, Suite 201, N. Charleston, SC 29405.

FOR FURTHER INFORMATION CONTACT: Julia Byrd, SEDAR Coordinator; telephone: (843) 571-4366; email: julia.byrd@safmc.net.

SUPPLEMENTARY INFORMATION: The Gulf of Mexico, South Atlantic, and Caribbean Fishery Management Councils, in conjunction with NOAA Fisheries and the Atlantic and Gulf States Marine Fisheries Commissions, have implemented the Southeast Data, Assessment and Review (SEDAR) process, a multi-step method for determining the status of fish stocks in the Southeast Region. SEDAR is a three-step process including: (1) Data Workshop; (2) Assessment Process utilizing webinars; and (3) Review Workshop. The product of the Data Workshop is a data report which compiles and evaluates potential datasets and recommends which datasets are appropriate for assessment analyses. The product of the Assessment Process is a stock assessment report which describes the fisheries, evaluates the status of the stock, estimates biological benchmarks, projects future population conditions, and recommends research and monitoring needs. The assessment is independently peer reviewed at the Review Workshop. The product of the Review Workshop is a Summary documenting panel opinions regarding the strengths and weaknesses of the stock assessment and input data. Participants for SEDAR Workshops are appointed by the Gulf of Mexico, South Atlantic, and Caribbean Fishery Management Councils and NOAA Fisheries Southeast Regional Office, Highly Migratory Species Management Division, and Southeast Fisheries Science Center. Participants include: data collectors and database managers; stock assessment scientists, biologists, and researchers; constituency representatives including fishermen, environmentalists, and non-governmental organizations (NGOs); international experts; and staff of Councils, Commissions, and state and federal agencies.

The items of discussion in the pre-assessment webinar and Assessment Workshop webinars are as follows:

1. Participants will employ assessment models to evaluate stock status, estimate population benchmarks and management criteria, and project future conditions. The assessment models will use the recommended datasets from the Data Workshop.

2. Participants will recommend the most appropriate methods and configurations for determining stock status and estimating population parameters.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

These meetings are accessible to people with disabilities. Requests for auxiliary aids should be directed to the SEDAR office (see ADDRESSES) at least 10 business days prior to the meeting.

Note: The times and sequence specified in this agenda are subject to change.

Dated: March 12, 2013.
Tracey L. Thompson,
Acting Deputy Director, Office of Sustainable Fisheries, National Marine Fisheries Service.

[FR Doc. 2013-06098 Filed 3-15-13; 8:45 am]

BILLING CODE 3510-22-P